DEPARTMENT OF HOUSING AND URBAN DEVELOPMENT

[Docket No. FR-5196-N-01]

Capacity Building for Community; Development and Affordable Housing Grants

AGENCY: Office of the Assistant Secretary for Community Planning and Development, HUD.

ACTION: Notice of Funding Availability (NOFA).

Overview Information

A. Federal Agency Name: Department of Housing and Urban Development, Office of Community Planning and Development.

B. Funding Opportunity Title: Capacity Building for Community Development and Affordable Housing Grants.

C. Announcement Type: Initial Announcement.

D. Funding Opportunity Number: FR-5196-N-01.

E. Catalog of Federal Domestic Assistance (CFDA) Number: 14.252.

F. Dates: The application deadline date is July 18, 2008.

G. Additional Overview Information: The competition is limited to the first four organizations identified in section 4(a) of the HUD Demonstration Act of 1993. These organizations are: Living Cities/The National Community Development Initiative, Enterprise Community Partners, Inc. (formerly The Enterprise Foundation), Local Initiatives Support Corporation (LISC), and Habitat for Humanity International. Application information is contained in the General Section of HUD's 2008 SuperNOFA (73 FR 14882), published March 19, 2008 and the information listed in this NOFA. The application submission information is contained in this NOFA at Section IV. Approximately $36.95 million is available. A 3:1 match of private resources to federal funds is required, as outlined in section 4(c) of the HUD Demonstration Act of 1993.

Full Text of Announcement

I. Funding Opportunity Description

A. Program Description. The purpose of the Section 4 capacity building program is to enhance the capacity and ability of community development corporations (CDCs) and community housing development organizations (CHDOs) to carry out community development and affordable housing activities that benefit low-income families.

B. Authority. The capacity building program is authorized by section 4 of the HUD Demonstration Act of 1993 (Pub. L. 103-120, 107 Stat. 1148, 42 U.S.C. 9816 note), as amended, and the Consolidated Appropriations Act, 2008 (Pub. L. 110-161).

II. Award Information

A. Available Funds. Approximately $33.5 million in Fiscal Year (FY) 2008 funding is available to carry out the eligible activities related to affordable housing and community development for the Section 4 capacity building program, of which up to $5 million may be made available for rural capacity building activities. In addition $3.45 million in FY2007 assistance is being rolled-over into this competition. As a result, approximately $36.95 million is available in this competition.

B. Performance Period. Awards will be for a period of 48 months.

C. Terms of Award. HUD will enter into a grant agreement with selected applicants for the performance period.

III. Eligibility Information

A. Eligible Applicants

1. The competition is limited to the first four organizations identified in section 4(a) of the HUD Demonstration Act of 1993. These organizations are: Living Cities/The National Community Development Initiative, Enterprise Community Partners, Inc. (formerly The Enterprise Foundation), the Local Initiatives Support Corporation (LISC), and Habitat for Humanity International. Specifically, the only applicants eligible for this competition are the four organizations located at the following addresses:

—Living Cities/The National Community Development Initiative, 55 West 125th Street, 11th Floor, New York, NY 10027.

—Enterprise Community Partners, Inc., 10227 Wincopin Circle, Suite 500, Columbia, MD 21044.

—Local Initiatives Support Corporation, 501 Seventh Avenue, 7th Floor, New York, NY 10018.

—Habitat for Humanity International, 121 Habitat Street, Americus, GA 31709.

Affiliates and local offices of these organizations and their community partners are not eligible to compete either directly or independently for capacity building grants under this notice, but rather may seek funding from the above organizations.

2. To be eligible for funding under this NOFA, all applicants must also meet the threshold requirements of the General Section, including the Civil Rights threshold in section III.C.

3. The four eligible applicants may propose assistance using in-house staff, subcontractors, subrecipients, and local organizations that have the requisite experience and capabilities.

B. Match Requirement. Section 4(c) of the HUD Demonstration Act of 1993 requires that each dollar awarded must be matched by three-dollars in cash or in-kind contribution obtained from private sources. This is a threshold requirement. To receive funding under this NOFA, each of the eligible organizations must document their share of matching resources. Eligible organizations must submit a firm letter of commitment for the match from each organization providing the match. HUD will accept documentation from the applicant that provides a firm commitment of resources provided by a third party to a grantee or subgrantee to conduct activities under this award. The source and amount of the match must be specifically provided and explicitly dedicated to the FY2008 Section 4 competitive grant. All match, including in-kind contributions, shall conform to the requirements of 24 CFR 84.23. Applications that do not have letters of commitment that demonstrate they have met the three-to-one match will fail the threshold requirement and will not receive further consideration for funding. Evidence of commitment for the three-to-one match, such as signed letters from private funding sources, shall be scanned and attached to the electronic application or submitted via fax (using form HUD-96011, “Third Party Documentation Facsimile Transmittal” (“Facsimile Transmittal Form” on Grants.gov) as part of the application.

C. Other

1. Eligible Activities and Priorities. Funds may be used to provide the following services:

a. Training, education, support, and advice to enhance the technical and administrative capabilities of CDCs and CHDOs, including the capacity to participate in consolidated planning, as well as in fair housing planning and continuum-of-care homeless assistance efforts that help ensure community-wide participation in assessing area needs; consulting broadly within the community; cooperatively planning for the use of available resources in a comprehensive and holistic manner; and assisting in evaluating performance under these community efforts and in linking plans with neighboring communities in order to foster regional planning;

b. Loans, grants, development assistance, predevelopment assistance, or other financial assistance to CDCs and CHDOs to carry out community development and affordable housing activities that benefit low-income families and persons, including the acquisition, construction, or rehabilitation of housing for low-income families and persons, and community and economic development activities that create jobs for low-income persons; and

c. Such other activities as may be determined by the grantees in consultation with the Secretary or his or her designee. Activities undertaken as part of, or as a result of, capacity building efforts described in this section shall support the implementation of other HUD programs, especially the Community Development Block Grant (CDBG) programs, HOME Investment Partnerships, homeless programs, and Housing Opportunities for Persons with AIDS (HOPWA). Further, such activities shall support HUD's Strategic Plan and priorities as described in the section V.B.1 and V.B.2 of the General Section.

d. Up to $5 million may be available for rural capacity building activities. Applicants who intend to spend capacity building funds on rural activities should identify those amounts in the application.

2. DUNS Requirement. Refer to the General Section for information regarding the Data Universal Numbering System (DUNS) requirement. Applicants must obtain a DUNS number to receive an award from HUD.

3. Other Eligibility Requirements. All applicants requesting funding under this NOFA must be in compliance with the applicable threshold requirements found in the General Section. Applicants that do not meet these requirements will be ineligible for funding.

4. False Statements. An applicant's false statement in an application is grounds for denial or termination of an award and grounds for possible punishment, as provided in 18 U.S.C. 1001.

5. Environmental Review. Individual project sites to be funded by awards under this NOFA may not be known at the time the individual grant agreements are awarded and also may not be known when some of the individual subgrants are made. Therefore, in accordance with 24 CFR 50.3(h), the application and the grant agreement must provide that no commitment or expenditure of HUD or private match funds to a HUD-assisted project may be made until HUD has: (1) completed an environmental review to the extent required under applicable regulations and (2) given notification of its approval, in accordance with 24 CFR 50.3(h).

IV. Application and Submission Information

A. Addresses To Request Application Package. Applications from the four eligible applicants must be received and validated by Grants.gov no later than 11:59:59 p.m. eastern time on the application deadline date. HUD must receive paper copy applications from applicants that received a waiver no later than 11:59:59 p.m. on the application deadline date. See the General Section for application submission and timely receipt procedures and for instructions on how to request a waiver. Paper applications will not be accepted, unless the applicant has received a waiver of the electronic submission requirement.

B. Content and Form of Application Submission. A completed application consists of an application submitted by an authorized official of the organization and containing all relevant sections of the application, as shown in the checklist below in Section IV.B.4.

1. Rural Activities. Those applying for funds to be used for rural capacity building activities must submit specific budget information on those rural activities.

2. Page Limitation. Narratives addressing Factors 1 through 5 are limited to no more than 30 typed pages. That is, reviewers will not review more than 30 pages for all five factors combined, except that the page limit does not include the form HUD-96010, Program Logic Model.

3. Prohibition on Materials Not Required. Materials other than what is requested in this NOFA are prohibited. Reviewers will not consider resumes, charts, letters, or any other documents attached to the application that are not specified in this NOFA.

4. Checklist for Application Submission. Procedures for submitting electronic copies are outlined in Sections IV.B. and F. of the General Section. The following checklist is provided as a guide to help ensure that applicants submit all the required elements. For applicants receiving a waiver of the electronic submission requirement, the paper submission must be in the order provided below. All applicants should enter the applicant name, DUNS number, and page numbers on the narrative pages of the application.

_SF-424, Application for Federal Assistance (Note: Applicants must enter their legal name in box 8.a. of the SF-424 as it appears in the Central Contractor Register (CCR). See the General Section regarding CCR Registration) (SF-424, Version 02, is available from Grants.gov);

_SF-424 Supplement, Survey for Ensuring Equal Opportunity for Applicants (“Faith Based EEO Survey (SF-424 SUPP)” on Grants.gov);

_Narrative addressing Factors 1 through 5;

_HUD-96010, Program Outcome Logic Model;

_HUD-424-CB, Grant Application Detailed Budget (“HUD Detailed Budget Form” on Grants.gov);

_HUD-424-CBW, Detailed Budget Worksheet for Non-Construction Projects;

_SF-LLL, Disclosure of Lobbying Activities (if applicable);

_HUD-2880, Applicant/Recipient Disclosure/Update Report (“HUD Applicant Recipient Disclosure Report” on Grants.gov);

_HUD-2993, Acknowledgment of Application Receipt (applicable to paper applications only);

_HUD-2994-A, You Are Our Client! Grant Applicant Survey (Optional); and

_HUD-96011, Third Party Documentation Facsimile Transmittal (“Facsimile Transmittal Form” on Grants.gov).

C. Submission Dates and Times. The application deadline date is July 18, 2008. Unless you received a waiver to the electronic application submission requirement, your completed application must be submitted through http://www.grants.gov/applicants/apply_for_grants.jsp and must be received and validated by Grants.gov no later than 11:59:59 p.m. eastern time on the application deadline date. (Refer to Section IV of the General Section for further information on the delivery and receipt of applications.)

D. Intergovernmental Review. Intergovernmental review is not applicable to capacity building applications.

E. Funding Restrictions. No fee or profit may be paid to any recipient or subrecipient of an award under this capacity building NOFA.

F. Other Submission Requirements

1. Electronic Delivery

a. The Grants.gov Web site offers a simple, unified application process. There are several registration steps applicants need to complete. Further information is contained in the General Section published on March 19, 2008 (73 FR 14883). Section 4 applicants should also read HUD's Federal Register Notice on Early Registration published on March 10, 2008 (73 FR 12751).

b. Electronic signature. Applications submitted through Grants.gov constitute submission as an electronically signed application.

2. Instructions on how to submit electronically are outlined in HUD's “Desktop User's Guide” located on HUD's Grants Web site at http://www.hud.gov/grants/index.cfm.

3. Waiver of Electronic Submission Requirement. Applicants interested in applying for funding under this NOFA must submit their applications electronically or request a waiver from the electronic submission process. Waiver requests must be submitted in writing by e-mail. Waiver requests must be submitted no later than 15 days prior to the application deadline date and should be e-mailed to Karen E. Daly at Karen.E.Daly@hud.gov. If you are granted a waiver from the electronic submission process, your application must be received by HUD no later than 11:59:59 p.m. eastern time on the application deadline date. See the General Section for additional information.

4. Proof of Timely Submission. Applicants must submit their applications via Grants.gov. http://www.grants.gov/applicants/apply_for_grants.jsp in time for receipt and validation by 11:59:59 p.m. eastern time on the application deadline date of July 18, 2008. Validation can take up to 72 hours, so applicants should submit with ample time for the process to be completed. Applicants are also advised to submit with sufficient time to correct any deficiencies that would prevent the acceptance of their application by Grants.gov. (Refer to the General Section for specific procedures regarding proof of timely submission of applications.)

V. Application Review Information

A. Criteria. The maximum number of points to be awarded for a capacity building application is 100. The minimum score for an application to be considered for funding is 75. The Section 4 capacity building program is not subject to bonus points, as described in the General Section.

Points are assigned on five factors. When addressing Factors 2 through 5, applicants should discuss the activities that will be carried out during the term of the grant agreement. Submissions should provide relevant examples to support the proposal, where appropriate. Submissions should also be specific when describing the communities, populations, and organizations that they propose to serve and the specific outcomes expected as a result of the activities. Submissions should also be specific about the relationship of their plan to the goals and objectives in the HUD Strategic Plan. The plan can be viewed on the HUD Web site at http://www.hud.gov/utilities/intercept.cfm?/offices/cfo/reports/hud_strat_plan_2006-2011.pdf.

1. Rating Factor 1: Capacity of the Applicant and Relevant Organizational Experience (15 points)

Factor 1 relates to the capacity of the applicant and its relevant organizational experience. Rating of the “applicant” or the “applicant's organization and staff” includes in-house staff and any subcontractors and subrecipients who are firmly committed to the project. In responding to Factor 1, applicants should specify the experience, knowledge, skills, and abilities of the applicant's organization and staff, and of any persons and organizations firmly committed to the project. Please do not include the Social Security Numbers of any staff.

a. (5 points) Recent and successful experience of the applicant's organization in building the capacity and ability of CDCs and CHDOs to develop affordable housing and community development activities.

In rating this factor, HUD will consider the extent to which the application demonstrates successful experience, within the last 4 years, in providing technical and administrative expertise to build the capacity of CDCs and CHDOs.

b. (5 points) Depth of experience in managing multiple capacity building tasks, to multiple entities, and in more than one geographic area.

In rating this factor, HUD will consider the extent to which the application demonstrates ability to manage capacity building assignments effectively.

c. (5 points) Knowledgeable key personnel skilled in providing one or more of the eligible activities for the Section 4 program; a sufficient number of staff, or ability to procure qualified experts or professionals, with the knowledge, skills, and abilities to deliver the proposed level of services in the proposed service area in a timely and effective fashion; and an ability to provide capacity building in urban and rural settings.

In rating this factor, HUD will consider the extent to which the application demonstrates that the organization has an adequate number of key staff or the ability to procure individuals with the knowledge of effective capacity building approaches and knowledge of developing affordable housing and community development activities. If applying for funds to be used for rural capacity building activities, clearly identify the need for funds in those rural areas.

2. Rating Factor 2: Need/Extent of the Problem (20 points)

Sound and extensive understanding of need for capacity building in relation to the eligible activities and priorities listed in Section III.C. of this NOFA, as demonstrated by objective information and/or data, such as information from current census data, the American Housing Survey, or other relevant data sources. Sound and extensive understanding of high-priority needs in urban and rural settings for CHDOs and CDCs, as demonstrated by objective information and/or data. If applying for funds to be used for rural capacity building activities, clearly identify the need for funds in those rural areas.

In rating this factor, HUD will evaluate the extent to which the application demonstrates an understanding of the specific needs for capacity building and supports the description of need with reliable, program-specific, quantitative information.

3. Rating Factor 3: Soundness of Approach (40 points)

a. (20 points) A sound approach for addressing the need for eligible capacity building activities in relation to the priorities listed in Section III.C. of this NOFA that will result in positive outcomes.

In rating this factor, HUD will evaluate the extent to which the application presents and supports a detailed, feasible, and practical approach for addressing capacity building needs; including techniques, time frames, goals, and intended beneficiaries, and the likelihood that these activities will be cost-effective and will result in the ability of the organization receiving technical assistance to commence work on specific housing and community development activities by the end of the performance period.

b. (10 points) A feasible work plan for designing, organizing, managing, and carrying out the proposed capacity building activities.

In rating this factor, HUD will evaluate the extent to which the application demonstrates the efficiency of the design, organization, and management of the proposed activities.

c. (10 points) An effective assistance program to specific disadvantaged communities, populations, and/or organizations that previously have been underserved and have the potential to participate in the Section 4 program (such as the Neighborhood Revitalization Strategy Areas designated by HUD, Colonias, Appalachia's distressed counties, the lower Mississippi Delta region, or locally designated community development target areas). If applying for funds to be used for rural capacity building activities, clearly identify the need for funds in those rural areas.

In rating this factor, HUD will evaluate the extent to which the applicant: (1) has identified and has documented, using reliable data, specific communities, populations, or organizations that have been disadvantaged or previously underserved communities, populations, or organizations and (2) has developed an effective strategy for engaging the participation of those communities, populations, or organizations in the capacity building program.

4. Rating Factor 4: Leveraging Resources (15 points)

This factor evaluates the applicant's ability to leverage (secure) public and/or private sector resources (such as financing, supplies, or services) from sources other than Section 4 that can be added to Section 4 funds to perform eligible activities and sustain the applicant's proposed project. Higher points will be awarded for higher percentages of leveraged resources, compared to the amount of Section 4 funds requested. No leveraging points will be awarded if the minimum match is not exceeded. For leveraging, HUD's Management Plan has a performance goal of ten investment dollars from outside sources in total project development costs for each Section 4 grant awarded. To document leveraging for the FY2008 NOFA, applicants should report their actual results in leveraging Section 4—assisted projects in Federal Fiscal Year 2007 (October 1, 2006-September 30, 2007). All leveraging commitments shall be scanned and attached to the electronic application or submitted via fax using form HUD-96011, “Third Party Documentation Facsimile Transmittal” (“Facsimile Transmittal Form” on Grants.gov) as part of the application.

Applicants must note that leveraging resources are considered additional resources beyond and above the statutorily required 3:1 matching resource requirement and cannot be counted towards the statutory match requirement.

5. Rating Factor 5: Achieving Results and Program Evaluation (10 points)

a. (5 points) An effective, quantifiable evaluation plan for measuring performance using the Logic Model (form HUD-96010, “Program Outcome Logic Model”) with specific outcome measures and benchmarks, and performance improvements.

In rating this factor, HUD will evaluate the extent to which the application has an evaluation plan that includes outcomes and is specific, measurable, and appropriate in relation to the activities proposed. HUD is committed to ensuring that programs result in the achievement of HUD's strategic mission. To support this effort, grant applications submitted for HUD programs will be rated on how well they tie proposed outcomes to HUD's policy priorities and annual goals and objectives, as well as the quality of the applicant's proposed evaluation and monitoring plans. HUD's strategic framework establishes the goals and objectives for the Department. Please refer to the General Section.

The Logic Model should, at a minimum, discuss those performance indicators that have been developed for use by HUD and the Office of Management and Budget (OMB) in evaluating the Section 4 program, using OMB's Program Assessment Rating Tool (PART). These measures include: (1) The annual number of homes renovated, preserved, or newly constructed; (2) the annual number of trainings created and provided to CDCs; (3) the long-term total development cost estimate of community development projects funded by CDCs; and (4) the efficiency measure of per-unit cost of capacity building for housing units developed or renovated.

Applicants should also outline any other short- or long-term outcomes that are indicators of their program's performance.

b. (5 points) Successful past performance in administering HUD's Section 4 capacity building program. This rating factor reflects HUD's goal to embrace high standards of ethics, management, and accountability. Applicants should include, as applicable, increases in Community Planning and Development (CPD) or affordable housing and community development program accomplishments as a result of capacity building (e.g., number of affordable housing units developed, number of trainings delivered to CDCs and CHDOs, growth of CDC and CHDO capacity over time, efficiency or effectiveness of administration of CPD or community development programs, timeliness of use of CPD or community development program funds, and project development investment and leveraging efficiencies).

In rating this factor, HUD will evaluate the extent to which the application demonstrates successful past performance that was timely and resulted in positive outcomes in the delivery of capacity building for affordable housing and community development. HUD will also consider past performance of current Section 4 grantees, including financial and other information in HUD's files.

B. Review and Selection Process

1. Review Types. Two types of reviews will be conducted. First, HUD will review each application to determine whether it meets threshold eligibility requirements. Second, HUD will review and assign scores to applications using the Factors for Award noted under Criteria, Section V.A.

2. Ranked Order. Once rating scores are assigned, rated applications will be listed in ranked order. Applications within the fundable range (score of 75+ points) may then be funded in ranked order.

3. Threshold Eligibility Requirements. All applicants must be in compliance with the applicable threshold requirements found in the General Section and the eligibility requirements listed in Section III of this NOFA in order to be reviewed, scored, and ranked. Applications that do not meet these requirements and applications that were received after the deadline (see Section IV.C. of the General Section) will be considered ineligible for funding.

VI. Award Administration Information

A. Award Notices. HUD will send written notifications to both successful and unsuccessful applicants. A notification sent to a successful applicant is not an authorization to begin performance or to incur costs.

After selection for funding, each grantee will submit to HUD a specific work and funding plan for each community it proposes to serve, showing when and how the federal funds and matching funds will be used. Applicants will be given the opportunity to amend their logic models according to the grant award, prior to entering into the grant agreement. The work plan must be sufficiently detailed for monitoring purposes and must identify the performance goals and objectives to be achieved. Within 45 days after submission of a specific work plan, HUD will approve the work plan or notify the grantee of matters that need to be addressed prior to approval. Work plans may be developed for less than the full dollar amount and term of the award, but no HUD-funded costs may be incurred for any activity until the work plan is approved by HUD. All activities are also subject to the environmental requirements in section III.C.5. of this notice.

After selection, but prior to award, applicants selected for funding will be required to provide HUD with their written Code of Conduct, if they have not previously done so and it is recorded on the HUD Web site at http://www.hud.gov/offices/adm/grants/codeofconduct/cconduct.cfm.

B. Administrative and National Policy Requirements

1. OMB Circulars and Governmentwide Regulations Applicable to Financial Assistance Programs

Awards under this NOFA will be governed by 24 CFR part 84 (Uniform Administrative Requirements), OMB Circular A-122 (Cost Principles for Nonprofit Organizations), and OMB Circular A-133 (Audits of States, Local Governments, and Non-Profit Organizations). Copies of the OMB Circulars may be obtained from Executive Office of the President's (EOP) Publications Office, Room 2200, New Executive Office Building, Washington, DC 20503, telephone number (202) 395-3080 (this is not a toll-free number) or (800) 877-8339 (a toll-free number for the TTY Federal Information Relay Service, for hearing-or speech impaired persons). Information also may be obtained from the OMB Web site at http://www.whitehouse.gov/omb/circulars/index.html.

2. General. See section III.C. of the General Section regarding additional applicable requirements. Please note, for example, when the activities carried out with HUD funds include construction, the grantee must comply with Executive Order 13202, “Preservation of Open Competition and Government Neutrality Towards Government Contractors' Labor Relations on Federal and Federally Funded Construction Projects.”

C. Reporting

1. Grantees will be required to report to HUD, as specified in the grant agreement. Performance reports shall include reports on both performance and financial progress under work plans and shall include reports on the commitment and expenditure of private matching resources utilized through the end of the reporting period. Reports shall conform to the reporting requirements of 24 CFR part 84. As part of the required performance report to HUD, grant recipients must include a completed Program Outcome Logic Model (form HUD-96010), which identifies output and outcome achievements.

2. Additional information or increased frequency of reporting may be required by HUD any time during the grant agreement, if HUD finds such reporting to be necessary for monitoring purposes.

3. To further the consultation process and share the results of progress to date, the Secretary may require grantees to present and discuss their performance reports at annual meetings in Washington, DC, during the life of the award.

4. The performance reports must contain the information required under 24 CFR part 84, including a comparison of actual accomplishments with the objectives and performance goals of the work plans. In the work plans, each grantee will identify performance goals and objectives established for each community in which it proposes to work and appropriate measurements under the work plan, such as the number of housing units and facilities each CDC or CHDO produces annually during the grant period and the average cost of such units. The performance reports will also include a discussion of the reasonableness of the unit costs, the reasons for slippage if established objectives and goals are not met, and additional pertinent information.

5. A final performance report, in the form described in paragraph (d) immediately above, shall be provided to HUD by each grantee within 90 days after the completion date of the award.

6. Financial status reports (SF-269A) shall be submitted quarterly.

VII. Agency Contacts

For Assistance. Applicants may contact Karen E. Daly at (202) 708-1817 (this is not a toll-free number). Persons with hearing and speech impairments may access the above numbers via TTY (text telephone) by calling the Federal Information Relay Service at (800) 877-8339 (this is a toll-free number). Information may also be obtained through the HUD Web site at www.hud.gov.

VIII. Other Information

A. Paperwork Reduction Act. The provisions of the Paperwork Reduction Act do not apply because there are fewer than 10 respondents; only four applicants are eligible for this program.

B. Environmental Impact. A Finding of No Significant Impact with respect to the environment has been made, in accordance with the Department's regulations at 24 CFR part 50, which implements section 102(2)(C) of the National Environmental Policy Act of 1969 (42 U.S.C. 4332). The Finding of No Significant Impact is available for public inspection between 7:30 a.m. and 5:30 p.m. weekdays at the Office of the Rules Docket Clerk, Department of Housing and Urban Development, 451 Seventh Street, SW., Room 10276, Washington, DC 20410.

C. Fair Housing and Equal Opportunity. Applications must contain a certification that the applicant and all subgrantees shall comply with the requirements of the Fair Housing Act, Title VI of the Civil Rights Act of 1964, section 504 of the Rehabilitation Act of 1973, the Age Discrimination Act of 1975, Title IX of the Education Amendments Act of 1972, and the Americans with Disabilities Act, and will affirmatively further fair housing.

D. Section 3 of the Housing and Urban Development Act of 1968. Applications must contain a certification that the applicant and all subgrantees will comply with section 3 of the Housing and Urban Development Act of 1968, as amended (12 U.S.C. 1701u) and HUD's implementing regulations at 24 CFR part 135, which require that, to the greatest extent feasible, opportunities for training and employment be given to low-income persons residing within the unit of local government for the metropolitan area (or nonmetropolitan county) in which the project is located.

Dated: April 2, 2008.
Nelson R. Bregón,
General Deputy Assistant Secretary for Community Planning and Development.

[FR Doc. E8-7400 Filed 4-8-08; 8:45 am]

BILLING CODE 4210-67-P